FEDERAL MARITIME COMMISSION

Ocean Transportation Intermediary License Revocations

The Federal Maritime Commission hereby gives notice that the following Ocean Transportation Intermediary licenses have been revoked pursuant to section 19 of the Shipping Act of 1984 (46 U.S.C. app. 1718) and the regulations of the Commission pertaining to the licensing of Ocean Transportation Intermediaries, effective on the corresponding date shown below:

License Number: 003576F.

Name: A I S International, Inc.

Address: 40 “L” Street, South Boston, MA 02127.

Date Revoked: May 28, 2004.

Reason: Failed to maintain a valid bond.

License Number: 004377F.

Name: Ceres Freight Systems, Inc.

Address: 26 East Bryan Street, Savannah, GA 31401.

Date Revoked: June 2, 2004.

Reason: Failed to maintain a valid bond.

License Number: 001287F.

Name: Crown Cargo Services, Inc.

Address: 1675 Market Street, Suite 215, Weston, FL 33326.

Date Revoked: May 28, 2004.

Reason: Surrendered license voluntarily.

License Number: 004492NF.

Name: International Transport Group, Inc.

Address: 1699 Wall Street, Suite 201, Mount Prospect, IL 60056.

Date Revoked: April 30, 2004.

Reason: Surrendered license voluntarily.

License Number: 000108F.

Name: The Bartel Shipping Co., Inc.

Address: 7 Dey Street, New York, NY 10007.

Date: June 4, 2004.

Reason: Failed to maintain a valid bond.

License Number: 004264N.

Name: Trans Freight Services Inc.

Address: 147-29 182nd Street, Jamaica, NY 11413.

Date: May 16, 2004.

Reason: Failed to maintain a valid bond.

Sandra L. Kusumoto,
Director, Bureau of Consumer Complaints and Licensing.

[FR Doc. 04-14247 Filed 6-22-04; 8:45 am]

BILLING CODE 6730-01-P